DEPARTMENT OF THE TREASURY

Proposed Collection; Comment Request

AGENCY: Departmental Offices; Department of the Treasury.

SUMMARY: The Department of the Treasury, as part of its continuing effort to reduce paperwork burdens, invites the general public and other Federal agencies to comment on an information collection that is due for extension approval by the Office of Management and Budget. The Office of International Affairs of the Department of the Treasury is soliciting comments concerning extension with minor changes of the following form: Treasury International Capital Form SHC/SHCA “Survey of U.S. Ownership of Foreign Securities including Selected Money Market Instruments.” The report is mandatory. The next such collection is the annual survey to be conducted as of December 31, 2024.

DATES: Written comments should be received on or before December 30, 2024 to be assured of consideration.

ADDRESSES: Direct all written comments to Dwight Wolkow, International Portfolio Investment Data Systems, Department of the Treasury, Room 1050 MT, 1500 Pennsylvania Avenue NW, Washington, DC 20220. In view of possible delays in mail delivery, please also notify Mr. Wolkow by email (comments2TIC@treasury.gov), or telephone (202-622-1276).

FOR FURTHER INFORMATION CONTACT: Copies of the proposed form and instructions are available on the Treasury's TIC Forms web page, https://home.treasury.gov/data/treasury-international-capital-tic-system-home-page/tic-forms-instructions/forms-shc#shc. Requests for additional information should be directed to Mr. Wolkow (comments2TIC@treasury.gov or 202-622-1276).

SUPPLEMENTARY INFORMATION:

Title: Treasury International Capital (TIC) Form SHC/SHCA “U.S. Ownership of Foreign Securities, including Selected Money Market Instruments.”

OMB Control Number: 1505-0146.

Abstract: Form SHC/SHCA is part of the Treasury International Capital (TIC) reporting system, which is required by law (22 U.S.C. 3101 et seq.; E.O. 11961; 31 CFR 129) and is used to conduct annual surveys of U.S. residents' ownership of foreign securities for portfolio investment purposes. This information is used by the U.S. Government in the formulation of international financial and monetary policies and for the preparation of the U.S. balance of payments accounts and the U.S. international investment position. This information is also used to provide information to the public and to meet international reporting commitments. The SHC/SHCA survey contributes to an internationally coordinated effort under the auspices of the International Monetary Fund (IMF) to improve data on securities worldwide. More than 80 countries participate in the annual IMF Coordinated Portfolio Investment Survey.

The data collection includes large benchmark surveys (Form SHC) conducted every five years, and smaller annual surveys (Form SHCA) conducted in the non-benchmark years. The data collected under an annual survey are used in conjunction with the results of the preceding benchmark survey and of recent reporting on TIC form SLT (“Aggregate Holdings, Purchases and Sales, and Fair Value Changes of Long-Term Securities by U.S. and Foreign Residents”) to make economy-wide estimates for non-benchmark years. Currently, the determination of who must report in the annual surveys is based primarily on the data submitted during the preceding benchmark survey and on data submitted on SLT reports in the survey year. The data requested in the annual survey will generally be the same as requested in the preceding benchmark report. Form SHC is used for the benchmark survey of all significant U.S.-resident custodians and end-investors regarding U.S. ownership of foreign securities. In non-benchmark years Form SHCA is used for the annual surveys of primarily the very largest U.S.-resident custodians and end-investors.

Current Actions: No changes in the forms (schedules) are being proposed at this time. Some minor changes in the instructions are being proposed, primarily to include clarifications requested by respondents during their reporting for the 2022 and 2023 surveys. The minor changes include: (1) necessary updates in the contact information, dates, links to information, and appendix E, List of Currency Codes; (2) clarifications about the handling of securities involved in repurchase and securities lending arrangements in (i) section II.B; in (ii) the second paragraph of section III; and in (iii) the description of “Securities . . . temporarily received as collateral” in section III.B; (3) the clarification in item 6 of section IV.B that ISIN codes are strongly preferred; (4) clarifications about the security types mentioned in the form, such as in the beginning of section III.C and in item 12 of section IV.B, where Type 4 is specified to include limited partners (“LPs”) and similar companies that do not meet the definition of funds; (5) the addition of “Annuities” in section III.B, Do Not Report; and (6) numerous other clarifications achieved through rewording and format changes to improve the instructions.

Type of Review: Extension, with minor changes, of a currently approved collection.

Affected Public: Business or other for-profit organizations.

Form: SHC/SHCA, Schedules 1, 2 and 3 (1505-0146).

Estimated Number of Respondents: An annual average (over five years) of 324, but this varies widely from about 760 in benchmark years (once every five years) to about 215 in other years (four out of every five years).

Estimated Average Time per Respondent: An annual average (over five years) of about 200 hours, but this will vary widely from respondent to respondent. (a) In the year of a benchmark survey, which is conducted once every five years, it is estimated that exempt respondents will require an average of 17 hours; custodians of securities providing security-by-security information will require an average of 361 hours, but this figure will vary widely for individual custodians; end-investors providing security-by-security information will require an average of 121 hours; and end-investors and custodians employing U.S. custodians will require an average of 41 hours. (b) In a non-benchmark year, which occurs four years out of every five years, it is estimated that custodians of securities providing security-by-security information will require an average of 546 hours (because only the largest U.S.-resident custodians will report), but this figure will vary widely for individual custodians; end-investors providing security-by-security information will require an average of 146 hours; and reporters entrusting their foreign securities to U.S. custodians will require an average of 49 hours. The exemption level for custodians and for end-investors, that applies only in benchmark years when filing schedules 2 or 3 or both, is the holding of less than $200 million in reportable foreign securities owned by U.S. residents.

Estimated Total Annual Burden Hours: An annual average (over five years) of 64,700 hours.

Frequency of Response: Annual.

Request for Comments: Comments submitted in response to this notice will be summarized and/or included in the request for Office of Management and Budget approval. All comments will become a matter of public record. The public is invited to submit written comments concerning, inter alia: (a) whether the Survey is necessary for the proper performance of the functions of the Office of International Affairs within the Department of the Treasury, including whether the information collected will have practical uses; (b) the accuracy of the above estimate of the burdens; (c) ways to enhance the quality, usefulness and clarity of the information to be collected; (d) ways to minimize the reporting and/or record keeping burdens on respondents, including the use of information technologies to automate the collection of the data requested; (e) estimates of capital or start-up costs of operation, maintenance and purchase of services to provide the information requested.

Dwight Wolkow,
Administrator, International Portfolio Investment Data Reporting Systems.

[FR Doc. 2024-25166 Filed 10-29-24; 8:45 am]

BILLING CODE 4810-AK-P